DEPARTMENT OF HEALTH AND HUMAN SERVICES

National Institutes of Health

National Cancer Institute; Amended Notice of Meeting

Notice is hereby given of a change in the meeting of the National Cancer Advisory Board, February 5, 2008, 8:30 a.m. to February 6, 2008, 12 p.m., National Institutes of Health, Building 31, 31 Center Drive, Bethesda, MD 20892 which was published in the Federal Register on December 31, 2007, 72 FR 74318.

This notice is amended to change the starting time on February 5, 2008 to 8 a.m. This notice is amended to add the NCAB Subcommittee on Planning and Budget meeting on February 4, 2008 from 6 p.m. to 7:30 p.m. and the Ad Hoc Subcommittee on Communications meeting on February 4, 2008 from 7:30 p.m. to 9 p.m. at the Hyatt Regency Bethesda, One Metro Center, Bethesda, MD 20814. The meetings are open to the public.

Dated: January 17, 2008.
Jennifer Spaeth,
Director, Office of Federal Advisory Committee Policy.

[FR Doc. 08-318 Filed 1-25-08; 8:45 am]

BILLING CODE 4140-01-M